DEPARTMENT OF TRANSPORTATION

Surface Transportation Board

[STB Ex Parte 646 (Sub-No. 2)]

Simplified Standards for Rail Rate Cases—Taxes in Revenue Shortfall Allocation Method

AGENCY: Surface Transportation Board.

ACTION: Notice of final decision.

SUMMARY: The Board corrected an error created in Simplified Standards For Rail Rate Cases, STB Ex Parte No. 646 (Sub-No. 1) (STB served Sept. 5, 2007), by adjusting the revenue shortfall (or overage) to pre-tax dollars to conform with other elements of the Revenue Shortfall Allocation Method.

FOR FURTHER INFORMATION CONTACT: Timothy Strafford, (202) 245-0356. Assistance for the hearing impaired is available through the Federal Information Relay Service (FIRS) at 1-800-877-8339.

SUPPLEMENTARY INFORMATION: By a decision served on November 21, 2008, the Board found that there was a material error in the Revenue Shortfall Allocation Method (RSAM) formula described in Simplified Standards For Rail Rate Cases, STB Ex Parte No. 646 (Sub-No. 1) (STB served Sept. 5, 2007), in its failure to account for federal and state taxes. To correct this error, the Board revised the formula by adopting the use of the statutory federal tax rate, combined with a railroad-specific state tax rate, to best approximate the marginal taxes the carrier would pay on incremental revenue.

Additional information is contained in the Board's decision. A copy of the Board's decision is available for inspection or copying at the Board's Public Docket Room, Room 131, 395 E Street, SW., Washington, DC 20423-0001, and is posted on the Board's Web site, at http://www.stb.dot.gov.

Decided: November 20, 2008.
By the Board, Chairman Nottingham, Vice Chairman Mulvey, and Commissioner Buttrey.
Kulunie L. Cannon,
Clearance Clerk.

[FR Doc. E8-28112 Filed 11-25-08; 8:45 am]

BILLING CODE 4915-01-P